DEPARTMENT OF THE INTERIOR

Office of the Secretary

[Docket No. ONRR-2012-0003; DS63602000 DR2000000.PX8000 167D0102R2]

U.S. Extractive Industries Transparency Initiative Public Outreach

AGENCY: Office of the Secretary, Interior.

ACTION: Notice.

SUMMARY: This notice announces the public outreach session/webinar regarding the U.S. Extractive Industries Transparency Initiative (USEITI) to increase awareness and dissemination of the 2015 USEITI Report and the benefits of EITI.

DATES: The public outreach session/webinar will be from 2:00-4:00 p.m. ET on May 3, 2016.

ADDRESSES: The public outreach session/webinar will be held in the Rachel Carson Room of the Stewart Lee Udall Department of the Interior Building located at 1849 C Street NW., Washington, DC 20240. Members of the public may attend in person or view documents and presentations under discussion via Live Meeting Net Conference at https://www.mymeetings.com/nc/join/. If joining via Live Meeting Net Conference: Enter conference number PW7730142 and audience passcode 7741096, and listen to the proceedings at telephone number 1-888-455-2910 and international toll number 210-839-8953 (passcode: 7741096).

FOR FURTHER INFORMATION CONTACT: Rosita Compton Christian, USEITI Secretariat; 1849 C Street NW., MS 4211, Washington, DC 20240. You may also contact the USEITI Secretariat via email at useiti@ios.doi.gov, by phone at 202-208-0272 or by fax at 202-513-0682.

SUPPLEMENTARY INFORMATION: The U.S. Department of the Interior established the USEITI Advisory Committee (Committee) on July 26, 2012, to oversee the domestic implementation of this voluntary, global initiative designed to increase transparency and accountability in the governance of extractive industries revenue management. More information about the Committee, including its charter, and public meetings can be found at www.doi.gov/eiti/faca.

This Public Outreach session/webinar will provide the public awareness of EITI and its benefits, update stakeholders on status of U.S. compliance with the global standard, and demonstrate the interactive on-line 2015 first annual USEITI Report. The USEITI Report can be found at https://useiti.doi.gov/. This session will also provide an opportunity for public comment on the First Annual USEITI Report.

Background: In September 2011, President Barack Obama announced the United States' commitment to participate in the Extractive Industries Transparency Initiative. Implementing EITI is a signature initiative of the U.S. National Action Plans for an Open Government Partnership. EITI offers a voluntary framework for companies and governments to publicly disclose in parallel the revenues paid and received for extraction of oil, gas, and minerals. The design of each framework is country-specific and is developed through a multi-year, consensus-based process by a multi-stakeholder group comprised of government, industry, and civil society representatives. President Obama named Secretary of the Interior the U.S. Senior Official responsible for implementing USEITI. The U.S. achieved Candidate Country status on March 14, 2014. USEITI published its First Annual Report on December 16, 2015. For further information on EITI, please visit the USEITI Web page at http://www.doi.gov/EITI.

Dated: April 22, 2016.
Gregory Gould,
Director, Office of Natural Resources Revenue.

[FR Doc. 2016-10115 Filed 4-28-16; 8:45 am]

BILLING CODE 4335-30-P